DEPARTMENT OF DEFENSE

Office of the Secretary

[Docket ID: DOD-2018-OS-0072]

Proposed Collection; Comment Request

AGENCY: Under Secretary of Defense for Policy, DoD.

ACTION: Information collection notice.

SUMMARY: In compliance with the Paperwork Reduction Act of 1995, the Defense Security Cooperation Agency (DSCA) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 24, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to The Defense Security Cooperation Agency (DSCA) ATTN: David Frasher, 220 12th Street South, Suite 203, Arlington, VA 22202-5408 or call (703) 601-4459.

SUPPLEMENTARY INFORMATION:

Title; Associated Form; and OMB Number: The Defense Institute of Security Assistance Management (DISAM) Information Technology Mission System (DISM); DISAM Form GSI-001; OMB Control Number 0704-0548.

Needs and Uses: DISM is a web based portal designed to hold several web applications for the purposes of efficient administration of U.S. and international students, and the effective management of DISAM personnel and guest lecturers. The portal provides DISAM personnel the ability to submit travel request and travel arrangements. Finally, the web based portal uses a relational database to record, manage and report information about students, personnel and travel. Reports of annual training of Foreign nationals to Congress as required by 22 U.S. Code 2394 (Foreign Assistance Act (FAA)) and 22 U.S. Code 2770A (Arms Export Control Act (AECA)).

DISM Student Registration Portal:

Affected Public: Individuals and Households.

Annual Burden Hours: 6,177 hours.

Number of Respondents: 12,353.

Responses per Respondent: 2.

Annual Responses: 24,706.

Average Burden per Response: 15 mins.

Frequency: On Occasion.

DISM Guest Speaker Form:

Affected Public: Individuals and Households.

Annual Burden Hours: 52 hours.

Number of Respondents: 206.

Responses per Respondent: 1.

Annual Responses: 206.

Average Burden per Response: 15 mins.

Frequency: On Occasion.

Average Totals:

Annual Burden Hours: 4,709.625 Hours.

Number of Respondents: 12,559.

Average Number of Responses: 1.5.

Total Annual Responses: 18,838.5

Average Burden per Response: 15 mins.

Respondents are contractor personnel, non-DOD U.S. Federal Government, Foreign Service nationals, industry students, guest speakers and lecturers involved in the Security Cooperation initiatives as prescribed by the President of the United States, Congress and Departments of State and Defense. Security Cooperation and Assistance programs as authorized by the FAA and the AECA are required to be administered by qualified personnel receiving formal education through the DISAM or other authorized Security Cooperation agencies. If the information collected on the student registration form is not collected, personnel looking to verify the qualifications of individuals in the Security Cooperation workforce database on the SAN, DISAM Student Database or the DISAM Personnel Database would be unable to match personnel to training and ensure compliance with the Deputy Secretary of Defense directive and federal law requiring the reporting of training of foreign nationals (ref. AECA). The DISAM Personnel Database, in conjunction with the Travel Forms, maintains records of the personnel TDY travel and reimbursement as required by federal law and DoD regulations.

Dated: October 18, 2018.
Aaron T. Siegel,
Alternate OSD Federal Register, Liaison Officer, Department of Defense.

[FR Doc. 2018-23168 Filed 10-23-18; 8:45 am]

BILLING CODE 5001-06-P